DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1-Motor vehicle, 2-Rail freight, 3-Cargo vessel, 4-Cargo aircraft only, 5-Passenger-carrying aircraft.

DATES: Comments must be received on or before October 5, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on September 1, 2020.
Donald P. Burger,
Chief, General Approvals and Permits Branch.

Application No. | Applicant | Regulation(s) affected | Nature of the special permits thereof
Special Permits Data
21091-N | Air Products and Chemicals, Inc. | 173.301(f), 173.301(g) | To authorize the transportation in commerce of hydrogen in tube trailers containing non-DOT Specification cylinders manufactured under DOT-SP 14576 that do not have pressure relief devices. (mode 1)
21093-N | Orbital Sciences, LLC | 172.101(j)(2), 173.185(a)(1), 173.185(b)(3)(i) | To authorize the transportation in commerce of the lithium metal battery identified as Model No. 9ER20P-20B, manufactured by Orion HIT, which are specifically designed for space flight, as Class 9 without passing UN T.6—Impact Test. (modes 1, 3, 4)
21094-N | Umbra Lab, Inc. | 173.185(a)(1), 173.185(b) | To authorize the transportation of prototype lithium batteries within a spacecraft. (mode 1)
21095-N | Suterra, LLC | 173.306(i)(1) | To authorize the transportation in commerce of limited quantities of aerosols for which the completed package exceeds 66 lbs gross weight. (modes 1, 2)
21096-N | Pacira Cryotech, Inc. | 171.23, 173.306(j) | To authorize the transportation in commerce of receptacles, small that have a oxidizer subsidiary hazard under 49 CFR 173.306(j). (modes 1, 4, 5)
21097-N | United States Dept Of Geological Survey |  | To authorize the transportation in commerce of methane hydrate in dry shippers using liquefied nitrogen. (modes 1, 4)
21098-N | The Dow Chemical Company | 172.203(a), 172.302(c), 173.31(d)(1)(ii) | To authorize the transportation in commerce of tank cars for which the external visual inspection of the manway cover gasket on AAR Specification 211, DOT Specification 111, DOT Specification 117J, DOT Specification 117R and DOT Specification 117P tank cars by alternative means. (mode 2)
21099-N | StageFX, Inc. | 173.51(a), 173.64, 173.65 | To authorize the use of the 2018 APA Standard 87-1C: Standard for the Construction, Classification, Approval, and Transportation of Entertainment Industry and Technical (EI&T) Pyrotechnics for classification of pyrotechnic materials. (modes 1, 4)
21102-N | Subaru Of America, Inc. |  | To authorize the transportation in commerce of emissions monitoring devices that are in-use during transportation. (mode 1)
21103-N | Kalitta Air, LLC | 172.200, 172.300, 172.400, 175.30 | To authorize the transportation in commerce of certain hazardous materials by cargo aircraft without shipping papers, marking and labeling, and information to the pilot-in-command. (mode 4)
21104-N | Kelley Fuels, Inc. | 172.336(c) | To authorize the transportation in commerce of cargo tanks containing either gasoline or diesel fuel with a placard permanently marked with a “1203” UN number identification mark. (mode 1)
21106-N | General Motors, LLC | 173.185(b)(1) | To authorize the transportation in commerce of lithium ion cells in Large Packaging by highway and rail. (mode 1, 2)
21108-N | Aerospacelab | 173.185(a)(1) | To authorize the transportation in commerce of low production lithium batteries contained in equipment by motor vehicle and cargo-only aircraft.

[FR Doc. 2020-19643 Filed 9-3-20; 8:45 am]

BILLING CODE 4910-60-P